NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time:

May 6, 2013; 8:30 a.m. to 5:45 p.m.,

May 7, 2013; 8:30 a.m. to 12:30 p.m.

Place: NSF Headquarters, Stafford II, Room 595, 4201 Wilson Boulevard, Arlington, VA 22230.

Type of Meeting: Open.

Contact Person: Amanda Edelman, National Science Foundation, 4201 Wilson Boulevard, Arlington, VA 22230, (703) 292-8600, aedelman@nsf.gov.

To help facilitate your entry into the building, please contact the individual listed above. Your request to attend this meeting should be received on or prior to May 2, 2013.

Purpose of Meeting: To provide advice with respect to the Foundation's science, technology, engineering, and mathematics (STEM) education and human resources programming.

Agenda

May 6, 2013 (Monday Morning)

• Remarks by the Committee Chair and NSF Assistant Director for Education and Human Resources (EHR)

• Subcommittee Updates and Discussion on:

○ Broadening Participation and Institutional Capacity Building

○ STEM Learning and Learning Environments

○ STEM Workforce Development

Lunch

May 6, 2013 (Monday Afternoon)

• Subcommittee Working Sessions

• Committee Visit with NSF Acting Director Cora Marrett

• Review and Acceptance of Committee of Visitor Reports

○ Science, Technology, Engineering, and Mathematics Talent Expansion Program

○ Transforming Undergraduate Education in Science, Technology, Engineering and Mathematics/Course Curriculum Laboratory Improvement Program

May 7, 2013 (Tuesday Morning)

• Subcommittee Working Sessions

• Subcommittee Report Outs and Next Steps

Adjournment

Dated: April 8, 2013.
Susanne Bolton,
Committee Management Officer.

[FR Doc. 2013-08521 Filed 4-11-13; 8:45 am]

BILLING CODE 7555-01-P